DEPARTMENT OF COMMERCE

International Trade Administration

[A-549-846]

Boltless Steel Shelving Units Prepackaged for Sale From Thailand: Final Affirmative Determination of Sales at Less Than Fair Value

AGENCY: Enforcement and Compliance, International Trade Administration, Department of Commerce.

SUMMARY: The U.S. Department of Commerce (Commerce) determines that boltless steel shelving units prepackaged for sale (boltless steel shelving) from Thailand are being, or are likely to be, sold in the United States at less than fair value (LTFV). The period of investigation is April 1, 2022, through March 31, 2023.

DATES: Applicable April 19, 2024.

FOR FURTHER INFORMATION CONTACT: Fred Baker, AD/CVD Operations, Office VI, Enforcement and Compliance, International Trade Administration, U.S. Department of Commerce, 1401 Constitution Avenue NW, Washington, DC 20230; telephone: (202) 482-2924.

SUPPLEMENTARY INFORMATION:

Background

On November 29, 2023, Commerce published in the Federal Register its preliminary affirmative determination in this investigation, in which we also postponed the final determination until April 12, 2024.¹ On January 2, 2024, Commerce published in the Federal Register its Amended Preliminary Determination.² We published a correction to the Preliminary Determination and Amended Preliminary Determination on January 24, 2024.³ We invited parties to comment on the Preliminary Determination.

¹ See Boltless Steel Shelving Units Prepackaged for Sale from Thailand: Preliminary Affirmative Determination of Sales at Less Than Fair Value, Postponement of Final Determination, and Extension of Provisional Measures, 88 FR 83389 (November 29, 2023) (Preliminary Determination), and accompanying Preliminary Decision Memorandum.

² See Boltless Steel Shelving Units Prepackaged from Thailand: Amended Preliminary Determination of Sales at Less-Than-Fair-Value, 89 FR 62 (January 2, 2024) (Amended Preliminary Determination), and accompanying Amended Preliminary Determination Analysis Memorandum.

³ See Boltless Steel Shelving Units Prepackaged for Sale from Thailand: Preliminary Affirmative Determination of Sales at Less Than Fair Value and Amended Preliminary Determination of Sales at Less Than Fair Value; Correction, 89 FR 4591 (January 24, 2024) (Correction Notice).

A summary of the events that occurred since Commerce published the Preliminary Determination, as well as a full discussion of the issues raised by parties for this final determination, may be found in the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Decision Memorandum for the Final Affirmative Determination in the Less-Than-Fair-Value Investigation of Boltless Steel Shelving Units Prepackaged for Sale from Thailand,” dated concurrently with, and hereby adopted by, this notice (Issues and Decision Memorandum).

Scope of the Investigation

The products covered by this investigation are boltless steel shelving from Thailand. For a complete description of the scope of this investigation, see Appendix I.

Scope Comments

During the course of this investigation, Commerce received scope comments from interested parties. Commerce issued a Preliminary Scope Decision Memorandum to address these comments and set aside a period of time for parties to address scope issues in scope-specific case and rebuttal briefs.⁵ We received comments from interested parties on the Preliminary Scope Decision Memorandum, which we addressed in the Final Scope Decision Memorandum.⁶ We did not make any changes to the scope of the investigation from the scope published in the Preliminary Determination.

⁵ See Memorandum, “Antidumping Duty Investigations of Boltless Steel Shelving Units Prepackaged for Sale from India, Malaysia, Taiwan, Thailand, and the Socialist Republic of Vietnam: Preliminary Scope Decision Memorandum,” dated November 13, 2023 (Preliminary Scope Decision Memorandum).

⁶ See Memorandum, “Antidumping Duty Investigations of Boltless Steel Shelving Units Prepackaged for Sale from India, Malaysia, Taiwan, Thailand, and the Socialist Republic of Vietnam: Final Scope Decision Memorandum,” dated April 12, 2024 (Final Scope Decision Memorandum).

Verification

Commerce verified the sales and cost information submitted by Bangkok Sheet Metal Public Co., Ltd. (Bangkok Sheet) and Siam Metal Tech Co., Ltd. (Siam Metal) for use in our final determination, consistent with section 782(i) of the Tariff Act of 1930, as amended (the Act). Specifically, Commerce conducted on-site verifications of the home market sales and cost of production responses submitted by Bangkok Sheet and Siam Metal. We used standard verification procedures, including an examination of relevant sales and accounting records, and original source documents provided by Bangkok Sheet and Siam Metal.⁷

⁷ See Memoranda, “Verification of the Sales Response of Bangkok Sheet Metal Public Co., Ltd.,” dated March 12, 2024; “Verification of the Sales Response of Siam Metal Tech Co., Ltd.,” dated March 12, 2024; “Verification of the Cost Response of Siam Metal Tech Co., Ltd. in the Antidumping Duty Investigation of Boltless Steel Shelving Units Prepackaged (BSS) from Thailand” dated March 11, 2024; and, “Verification of the Cost Response of Bangkok Sheet Metal Public Co., Ltd. in the Antidumping Duty Investigation of Boltless Steel Shelving Units Prepackaged from Thailand” dated March 12, 2024.

Analysis of Comments Received

All issues raised in the case briefs and rebuttal briefs submitted by interested parties in this investigation are addressed in the Issues and Decision Memorandum. A list of the issues raised is attached to this notice as Appendix II.

Changes Since the Preliminary Determination

We have made certain changes to the margin calculations for the Bangkok Sheet and Siam Metal since the Preliminary Determination. In addition, for both Bangkok Sheet and Siam Metal, we made changes certain changes based on minor corrections accepted during the cost and sales verifications. See the Issues and Decision Memorandum for a discussion of these changes.

All-Others Rate

Section 735(c)(5)(A) of the Act provides that the estimated weighted-average dumping margin for all other producers and exporters not individually investigated shall be equal to the weighted average of the estimated weighted-average dumping margins established for individually examined exporters and producers, excluding rates that are zero, de minimis, or determined entirely under section 776 of the Act, i.e., facts otherwise available.

In this investigation, we calculated an individual estimated weighted-average dumping margin for Bangkok Sheet that is not zero, de minimis, or determined entirely on the basis of facts available.⁸ We also calculated a dumping margin for Siam Metal that is zero. Consequently, Commerce is assigning the estimated weighted-average dumping margin calculated for Bangkok Sheet to all other producers and exporters of the merchandise under consideration, pursuant to section 735(c)(5)(A) of the Act.

⁸ See Amended Preliminary Determination, 89 FR at 62.

Final Determination

The final estimated weighted-average dumping margins are as follows:

Exporter/Producer | Estimated weighted- average dumping margin (percent)
Bangkok Sheet Metal Public Co., Ltd. | 2.75
Siam Metal Tech Co., Ltd. | 0.00
All Others | 2.75

Disclosure

Commerce intends to disclose its calculations performed to interested parties in this final determination within five days of any public announcement or, if there is no public announcement, within five days of the date of publication of this notice in accordance with 19 CFR 351.224(b).

Continuation of Suspension of Liquidation

In accordance with section 735(c)(1)(B) of the Act, Commerce will instruct U.S. Customs and Border Protection (CBP) to continue to suspend liquidation of subject merchandise as described in Appendix I of this notice, which were entered, or withdrawn from warehouse, for consumption, on or after November 29, 2023, the date of publication of the Preliminary Determination in the Federal Register.

Because the estimated weighted-average dumping margin for Siam Metal as the producer and exporter is zero, entries of shipments of subject merchandise that are produced and exported by Siam Metal will not be subject to suspension of liquidation or cash deposit requirements. Accordingly, Commerce will direct CBP not to suspend liquidation of entries of subject merchandise produced and exported by Siam Metal. In accordance with section 735(a)(4) of the Act and 19 CFR 351.204(e)(1), should the investigation result in an antidumping duty order pursuant to section 736 of the Act, entries of shipments of subject merchandise from this producer/exporter combination will be excluded from the order. However, entries of shipments of subject merchandise from this company in any other producer/exporter combination, or by third parties that sourced subject merchandise from the excluded producer/exporter combination, will be subject to suspension of liquidation at the all-others rate.

Pursuant to section 735(c)(1)(B)(ii) of the Act and 19 CFR 351.210(d), upon the publication of this notice, Commerce will instruct CBP to require a cash deposit equal to the estimated weighted-average dumping margin as follows: (1) the cash deposit rate for the respondents listed in the table above is equal to the company-specific estimated weighted-average dumping margin listed for the respondent in the table; (2) if the exporter is not a respondent identified in the table above but the producer is, then the cash deposit rate is equal to the company-specific estimated weighted-average dumping margin listed for the producer of the subject merchandise in the table above; and (3) the cash deposit rate for all other producers and exporters is equal to the all-others estimated weighted-average dumping margin listed in the table above.

These suspension of liquidation instructions will remain in effect until further notice.

U.S. International Trade Commission Notification

In accordance with section 735(d) of the Act, Commerce will notify the U.S. International Trade Commission (ITC) of its final affirmative determination of sales at LTFV. Because Commerce's final determination in this proceeding is affirmative, in accordance with section 735(b)(2) of the Act, the ITC will make its final determination as to whether the domestic industry in the United States is materially injured, or threatened with material injury, by reason of imports of boltless steel shelving from Thailand no later than 45 days after this final determination. If the ITC determines that material injury or threat of material injury does not exist, the proceeding will be terminated and all cash deposits will be refunded or canceled, and suspension of liquidation will be lifted. If the ITC determines that such injury does exist, Commerce will issue an antidumping duty order directing CBP to assess, upon further instruction by Commerce, antidumping duties on all imports of the subject merchandise that are entered, or withdrawn from warehouse, for consumption on or after the effective date of the suspension of liquidation, as discussed above in the “Continuation of Suspension of Liquidation” section above.

Administrative Protective Order

This notice serves as the final reminder to parties subject to an administrative protective order (APO) of their responsibility concerning the disposition of proprietary information disclosed under APO in accordance with 19 CFR 351.305(a)(3). Timely notification of the return or destruction of APO materials or conversion to judicial protective order is hereby requested. Failure to comply with the regulations and terms of an APO is a violation subject to sanction.

Notification to Interested Parties

This determination is issued and published in accordance with sections 735(d) and 777(i) of the Act and 19 CFR 351.210(c).

Dated: April 12, 2024.
Ryan Majerus,
Deputy Assistant Secretary for Policy and Negotiations, performing the non-exclusive functions and duties of the Assistant Secretary for Enforcement and Compliance.

Appendix I—Scope of the Investigation

The scope of this investigation covers boltless steel shelving units prepackaged for sale, with or without decks (boltless steel shelving). The term “prepackaged for sale” means that, at a minimum, the steel vertical supports (i.e., uprights and posts) and steel horizontal supports (i.e., beams, braces) necessary to assemble a completed shelving unit (with or without decks) are packaged together for ultimate purchase by the end-user. The scope also includes add-on kits. Add-on kits include, but are not limited to, kits that allow the end-user to add an extension shelving unit onto an existing boltless steel shelving unit such that the extension and the original unit will share common frame elements (e.g., two posts). The term “boltless” refers to steel shelving in which the vertical and horizontal supports forming the frame are assembled primarily without the use of nuts and bolts, or screws. The vertical and horizontal support members for boltless steel shelving are assembled by methods such as, but not limited to, fitting a rivet, punched or cut tab, or other similar connector on one support into a hole, slot or similar receptacle on another support. The supports lock together to form the frame for the shelving unit, and provide the structural integrity of the shelving unit separate from the inclusion of any decking. The incidental use of nuts and bolts, or screws to add accessories, wall anchors, tie-bars or shelf supports does not remove the product from scope. Boltless steel shelving units may also come packaged as partially assembled, such as when two upright supports are welded together with front-to-back supports, or are otherwise connected, to form an end unit for the frame. The boltless steel shelving covered by this investigation may be commonly described as rivet shelving, welded frame shelving, slot and tab shelving, and punched rivet (quasi-rivet) shelving as well as by other trade names. The term “deck” refers to the shelf that sits on or fits into the horizontal supports (beams or braces) to provide the horizontal storage surface of the shelving unit.

The scope includes all boltless steel shelving meeting the description above, regardless of: (1) vertical support or post type (including but not limited to open post, closed post and tubing); (2) horizontal support or beam/brace profile (including but not limited to Z-beam, C-beam, L-beam, step beam and cargo rack); (3) number of supports; (4) surface coating (including but not limited to paint, epoxy, powder coating, zinc and other metallic coating); (5) number of levels; (6) weight capacity; (7) shape (including but not limited to rectangular, square, and corner units); (8) decking material (including but not limited to wire decking, particle board, laminated board or no deck at all); or (9) the boltless method by which vertical and horizontal supports connect (including but not limited to keyhole and rivet, slot and tab, welded frame, punched rivet and clip).

Specifically excluded from the scope are:

• wall-mounted shelving, defined as shelving that is hung on the wall and does not stand on, or transfer load to, the floor. The addition of a wall bracket or other device to attach otherwise freestanding subject merchandise to a wall does not meet the terms of this exclusion;

• wire shelving units, which consist of shelves made from wire that incorporates both a wire deck and wire horizontal supports (taking the place of the horizontal beams and braces) into a single piece with tubular collars that slide over the posts and onto plastic sleeves snapped on the posts to create the finished shelving unit;

• bulk-packed parts or components of boltless steel shelving units; and

• made-to-order shelving systems.

Subject boltless steel shelving enters the United States through Harmonized Tariff Schedule of the United States (HTSUS) statistical subheading 9403.20.0075. While the HTSUS subheading is provided for convenience and customs purposes, the written description of the scope of this investigation is dispositive.

Appendix II—List of Topics Discussed in the Issues and Decision Memorandum

I. Summary

II. Background

III. Period of Investigation

IV. Scope of the Investigation

V. Changes from the Preliminary Determination

VI. Discussion of the Issues

Comment 1: Whether Commerce Should Revise Its Calculation of Constructed Value (CV) Profit and Selling Expenses

Comment 2: Whether to Correct the Date of Sale for Siam Metal's U.S. Sales

Comment 3: Whether Commerce Should Revise Siam Metal's and Bangkok Sheet's Total Cost of Manufacture (TOTCOM) for the Subject Merchandise to Reflect the Total Cost Recorded in Their Generally Accepted Accounting Principles (GAAP)-Compliant Audited Financial Statements

Comment 4: Whether Commerce Should Revise Its Calculation of General and Administrative (G&A) Expenses and Interest Expenses (INTEX)

Comment 5: Whether Commerce Should Revise the Calculation of the Major Input Adjustment

Comment 6: Whether Commerce Should Revise Bangkok Sheet's G&A Expenses to Remove the Prior Year's Bad Debt Allowance

Comment 7: Whether Commerce Should Revise Bangkok Sheet's Costs to Correct Understated Direct Material Costs, Labor Costs, and Should Include Allowance for Obsolete Goods

Comment 8: Whether Commerce Should Apply Its Cohen's d Test

VII. Recommendation

[FR Doc. 2024-08373 Filed 4-18-24; 8:45 am]

BILLING CODE 3510-DS-P